DEPARTMENT OF TRANSPORTATION

Coast Guard

33 CFR Part 100

[CGD01-00-144]

RIN 2115-AE46

Special Local Regulation: Fireworks Displays Within the First Coast Guard District

AGENCY: Coast Guard, DOT.

ACTION: Notice of Implementation

SUMMARY: This document provides notice of the dates and times of the special local regulations contained in 33 CFR 100.114, Fireworks Displays Within the First Coast Guard District. Implementation of these regulations is necessary to control vessel traffic within the regulated area to ensure the safety of spectators.

DATES: The regulations in 33 CFR 100.114 are effective from one hour before the scheduled start of the event until thirty minutes after the last firework is exploded for each event listed in the table below. The events are listed chronologically by month with their corresponding number listed in the special local regulation, 33 CFR 100.114.

FOR FURTHER INFORMATION CONTACT: Petty Officer William M. Anderson, Office of Search and Rescue branch, First Coast Guard District at (617) 223-8460.

SUPPLEMENTARY INFORMATION: This notice implements the special local regulations in 33 CFR 100.114 (64 FR 34544, June 28, 1999). All vessels will be restricted from entering the area of navigable water within a 500-yard radius of the fireworks launch platform for each event listed in the Fireworks Display Table below.

Fireworks Displays

Connecticut—June 24th—7.3

Name: American Legion Post 83 Fireworks.

Sponsor: Town of Branford American Legion Post.

Time: 9:00 p.m. to 10:00 p.m.

Location: Branford Point, Branford, CT, 41°21′N/072°05′20″ W (NAD 1983).

New York—July 8th—7.4

Name: Devon Yacht Club Fireworks.

Sponsor: Devon Yacht Club, Amagansett, NY.

Time: 9:30 p.m. to 10:00 p.m.

Location: Devon Yacht Club, Amagansett, NY, 40°00′00″ N/072°06′12″ W (NAD 1983).

Connecticut—July 3rd—7.8—Rain date: July 5th

Name: Stamford Fireworks.

Sponsor: City of Stamford.

Time: 9:00 p.m. to 10:00 p.m.

Location: Westcott Cove, Stamford, CT, 41°02′01″ N/73°30′3″W (NAD 1983).

New York—July 2nd—7.16

Name: Salute to Veterans.

Sponsor: Town of North Hempstead, NY.

Time: 9:00 p.m. to 10:00 p.m.

Location: Hempstead, NY. Point Lookout, 40°35′34″ N/073°35′24″ W (NAD 1983).

Massachusetts—July 2nd—7.21—Rain date: July 3rd

Name: Town of Barnstable Fireworks.

Sponsor: Town of Barnstable.

Time: 8:00 p.m. to 10:00 p.m.

Location: Dunbar Point/Kalmus Beach, Barnstable, MA, 41°38′30N / 070°16′W (NAD 1983).

Massachusetts—July 1st—7.27—Rain date: July 2nd

Name: Onset Fireworks.

Sponsor: Town of Wareham, MA.

Time: 9 p.m. to 10 p.m.

Location: Onset Harbor, Onset, MA, 41°38′N/071°55′W (NAD 1983).

Massachusetts—July 4th—7.28

Name: Plymouth Fireworks Display.

Sponsor: July Four Plymouth Inc.

Time: 9:00 p.m. to 10:00 p.m.

Location: Plymouth Harbor, Plymouth, MA, 41°57′20″ N/070°38′20″ W (NAD 1983).

Rhode Island—July 2nd—7.32—Rain date: July 3rd

Name: Oyster Harbor Club Fourth of July Festival.

Sponsor: Oyster Harbor Club, Inc.

Time: 6:00 p.m. to 10:00 p.m.

Location: Tim's Cove, North Bay, Osterville, RI, 41°37′30″N/070°23′21″ W (NAD 1983).

Connecticut—July 4th—7.34—Rain date: July 8th

Name: Fairfield Aerial Fireworks.

Sponsor: Fairfield Park Commission.

Time: 9:00 p.m. to 10:30 p.m.

Location: Jennings Beach, Long Island Sound, Fairfield, CT, 41°08′22″ N/073°14′02″ W.

Connecticut—July 3rd—7.35—Rain date: July 4th

Name: Subfest Fireworks.

Sponsor: U.S. Naval Submarine Base.

Time: 9:00 p.m. to 10:00 p.m.

Location: Thames River, Groton, CT.

Connecticut—July 3rd—7.39

Name: City of Norwalk Fireworks.

Sponsor: Norwalk Recreation and Parks Department.

Time: 9:15 p.m. to 10:30 p.m.

Location: Calf Pasture Beach, Long Island Sound, Norwalk, CT, 41°04′50″ N/073°23′22″ W (NAD 1983).

Connecticut—July 3rd—7.41

Name: Stratford Fireworks.

Sponsor: Town of Stratford.

Time: 9:30 p.m. to 11:30 p.m.

Location: Short Beach, Stratford, CT, 41°09′5″N/073°06′5″W (NAD 1983).

Connecticut—June 30th—7.42

Name: Westport P.A.L. Fireworks.

Sponsor: Westport Police Athletic League.

Time: 9:30 p.m. to 10:30 p.m.

Location: Compo Beach, Westport, CT, 41°06′6″N/073°20′31″ W (NAD 1983).

New York—July 22nd—7.50

Name: Boys Harbor Fireworks Extravaganza.

Sponsor: Boys Harbor Inc.

Time: 9:00 p.m. to 10 p.m.

Location: Three Mile Harbor, East Hampton, NY, 41°15′N/070°11′91″ W (NAD 1983).

Massachusetts—August 18th—8.9—Rain date: August 19th

Name: Oaks Bluff Fireworks.

Sponsor: Oaks Bluff Fireman's Civic Association.

Time: 4:00 p.m. to 10:00 p.m.

Location: Oaks Bluff Beach, Oaks Bluff, MA, 41°27′5″N/070°33′0″W (NAD 1983).

Connecticut—September 9th—9.5

Name: Taste of Italy.

Sponsor: Italian Heritage Committee.

Time: 8:00 p.m. to 10:00 p.m.

Location: Norwich Harbor, off Norwich Marina, Norwich, CT, 41°31′20″ N/073°04′83″ W (NAD 1983).

Dated: June 2, 2000.
G.N. Naccara,
Rear Admiral, U.S. Coast Guard Commander, First Coast Guard District.

[FR Doc. 00-15515 Filed 6-19-00; 8:45 am]

BILLING CODE 4910-15-U